DEPARTMENT OF AGRICULTURE

Forest Service

Intent To Prepare an Environmental Impact Statement; Fernow Experimental Forest, Tucker County, WV

AGENCY: Forest Service, USDA.

ACTION: Notice.

SUMMARY: The Forest Service intends to prepare an environmental impact statement (EIS) for proposed research activities on the Fernow Experimental Forest. The purpose of the proposed research is to evaluate the effectiveness of silvicultural tools that include cutting and prescribed burning on central Appalachian forests. The goal of the proposed research is to improve understanding about and management of central Appalachian hardwood forests.

The 4700-acre Fernow Experimental Forest is situated inside the parameters of the Monongahela National Forest in Tucker County, West Virginia. These proposed research activities are in compliance with the Monongahela National Forest Management Plan, which provides overall guidance for management of the area, including direction for management of the Fernow Experimental Forest. Public comment is invited on the scope of the analysis that should be conducted and on the identification of alternatives.

DATES: Comments must be submitted in writing and received by March 27, 2000.

ADDRESSES: Written comments concerning the scope of the proposed research activities should be directed to Dr. Mary Beth Adams, Project Leader and Responsible Official, Timber and Watershed Laboratory, P.O. Box 404, Parsons, WV 26287.

Comments also may be submitted via facsimile to (304) 478-8692 or by e-mail to madams/r9_monong@fs.fed.us. Comments received in response to this notice, including name and address when provided, will be considered part of the public record and will be available for public inspection.

The public may inspect comments received at the Office of the Project Leader, Timber and Watershed Laboratory, Nursery Bottom, Parsons, West Virginia.

FOR FURTHER INFORMATION CONTACT: Dr. Mary Beth Adams, Project Leader, Timber and Watershed Laboratory, at (304) 478-2000, ext. 130.

SUPPLEMENTARY INFORMATION:

Background

The charter of the Fernow Experimental Forest is to facilitate ecological research on the central Appalachian forests. The 4700-acre Fernow Experimental Forest (the Forest) is situated inside the parameters of the Monongahela National Forest and is located south of Parsons, West Virginia. The Forest is administered by the Forest Service Northeastern Research Station, Research Work Unit NE-4353, “Sustainable Forest Ecosystems in the Central Appalachians.” The Research Work Unit is located at the Timber and Watershed Laboratory in Parsons, West Virginia. The mission of this research unit is: (1) To explain the role of natural and human-induced factors in sustaining central Appalachian forest ecosystems and (2) to provide guidelines for managing central Appalachian forests for a range of products and benefits while maintaining the productivity and diversity of the soil, water, and forest resources. The goal of the proposed research activities is to improve understanding about and management of central Appalachian hardwood forests.

The Forest Service proposes to continue some research activities begun in the 1950s and to initiate some new research activities in the year 2000. These actions are consistent with the Research Work Unit Description; individual Study Plans; the Monongahela National Forest Land and Resource Management Plan, Management Prescription 8, page 202, Vegetation; and the General Plan for the Fernow Experimental Forest.

The purpose of the research initiated in the 1950s was to study the effects of various silvicultural practices on forest productivity, species composition and diversity, wildlife populations, and ecosystem processes. This research continues and involves the application of experimental treatments, including diameter-limiting cutting on 186 acres, single-tree selection on 229.6 acres, a financial maturity harvesting method based on projected rates of return on investment on 343.4 acres, and small clearcuts on 26 acres.

The proposed new research activities would involve application of silvicultural treatments to stands of trees as part of an ongoing research experiment. The silvicultural treatments involve cutting individual trees, according to the silvicultural prescription, and removing the stems from the stand. Branches and tree tops remain in the stand. Rubber-tired skidders and cable logging systems will be used to remove the trees. Existing skid trails and roads will be utilized. No new permanent roads will be constructed. After completion of silvicultural treatments, roads and decks used in the logging process will be closed.

One of the purposes of the proposed new research activities is to evaluate the effectiveness of prescribed burning as a silvicultural and ecological tool on the central Appalachian forests. An area of 119 acres will be treated with prescribed fire. Research activities that include prescribed fires will be conducted according to State regulations administered by the West Virginia Division of Forestry. A slow-moving fire (1-5 ft/min) that produces high amounts of heat (2-4 ft flame lengths) conducted in the spring is deemed to have the most beneficial effect in improving oak competitiveness and will be used in these research activities. All personnel supervising and working on the fire will have received training in the use of prescribed fire and in fire suppression.

Comments Are Requested

The Forest Service is soliciting comments from Federal, State, and local agencies and other individuals or organizations that may be interested in or affected by the proposed research activities in:

• Identifying potential issues;

• Identifying issues to be analyzed in depth;

• Eliminating insignificant issues or those which have been covered by a relevant previous environmental analysis;

• Identifying potential environmental effects of the proposed activities;

• Identifying and exploring alternatives to the proposed research activities; and

• Determining potential cooperating agencies and task assignments.

The following issues already have been identified:

• Potential impacts to Threatened, Endangered or Sensitive Species;

• Potential impacts on Biodiversity, including concerns about fragmentation of interior habitat, and loss of old growth habitat;

• Sediment impacts on streams from roads, skid trails, and log landings.

Comments received will be considered in preparation of the draft EIS. The draft EIS is expected to be filed with the Environmental Protection Agency (EPA) and to be available for public review in March 2000. EPA will publish a notice of availability of the Draft EIS in the Federal Register. The comment period on the draft will be 45 days from the date the EPA notice appears in the Federal Register. Copies of the draft EIS will be distributed to interested and affected agencies, organizations, tribes, and members of the public for their review and comment. It is very important that those interested in the management of the Fernow Experimental Forest comment at that time.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

At this early stage, the Forest Service believes it is important to give reviewers notice of several court rulings related to public participation in the environmental review process. First, reviewers of a draft EIS must structure their participation in the environmental review of the proposal so that it is meaningful and alerts an agency to the reviewer's position and contentions (Vermont Yankee Nuclear Power Corp. v. NRDC, 435 U.S. 519, 553 (1978)). Also, environmental objections that could be raised at the draft EIS stage but that are not raised until after completion of the final EIS may be waived or dismissed by the courts. (City of Angoon v. Hodel 803 f. 2d 1016, 1022 (9th Cir. 1986) and Wisconsin Heritage, Inc. v. Harris, 490F. Suppl. 1334, 1338 (E.D. Wis. 1980)). Because of these court rulings, it is very important that those interested in this proposed action participate by the close of the comment period so that substantive comments and objections are made available to the Forest Service at a time when it can meaningfully consider them and respond to them in the final EIS.

The final EIS will be completed in June 2000. In the final EIS, the Forest Service will respond to comments received in response to the environmental consequences discussed in the draft EIS and applicable laws, regulations, and policies considered in making the decision regarding this proposal. The responsible official will document the decision and the rationale for that decision in the Record of Decision. That decision will be subject to Forest Service Administrative Appeal Regulations at 36 CFR part 215.

Dated: January 28, 2000.
Randle G. Phillips,
Deputy Chief, Programs and Legislation.

[FR Doc. 00-2748 Filed 2-8-00; 8:45 am]

BILLING CODE 3410-11-P